ENVIRONMENTAL PROTECTION AGENCY

[ER-6689-3]

Environmental Impacts Statements; Notice of Availability

Responsible Agency: Office of Federal Activities; General Information (202) 564-7167 or http://www.epa.gov/compliance/nepa/.

Weekly receipt of Environmental Impact Statements

Filed 07/16/2007 through 07/20/2007

Pursuant to 40 CFR 1506.9.

EIS No. 20070308, Draft EIS, AFS, MT, Marten Creek Project, Proposed Timber Harvest, Prescribed Fire Burning, Watershed Restoration, and Associated Activities Cabinet Ranger District, Kootenai National Forest, Sanders County, MT, Comment Period Ends: 09/10/2007. Contact: Dave Clay, 406-827-0717.

EIS No. 20070309, Final EIS, FRC, 00, Spokane River and Post Falls Hydroelectric Project, Applications for two New Licenses for Existing 14.75 (mw) Post Falls No. 12606 and 122.9 (mw) Spokane River No. 2545, Kootenai and Benewah Counties, ID and Spokane, Lincoln and Stevens Counties WA, Wait Period Ends: 08/27/2007. Contact: Andy Black, 1-866-208-3372.

EIS No. 20070310, Draft EIS, AFS, WA, Old Curlew Ranger Station Facilities Disposal Project, Proposal to Sell 3-Acre Parcel Including Buildings, Republic Ranger District, Colville National Forest, South Side of Curlew, Ferry County, WA, Comment Period Ends: 09/10/2007. Contact: James L. Parker, 509-775-7462.

EIS No. 20070311, Draft Supplement, COE, CO, Rueter-Hess Reservoir Expansion Project, Enlarges Reservoir to Provide Storage of Denver Basin Groundwater for Meeting Peak Municipal Water Supply, U.S. Army COE Section 404 Permit, Town of Parker, Douglas County, CO. Comment Period Ends: 09/10/2007. Contact: Rodney J. Schwartz, 402-221-4939.

EIS No. 20070312, Draft EIS, USN, HI, Hawaii Range Complex (HRC) Project, To Support and Maintain Navy Pacific Fleet Training, and Research, Development, Test, and Evaluation (RDT&E) Operations, Kauai, Honolulu, Maui and Hawaii Counties, HI. Comment Period Ends: 09/10/2007. Contact: Tom Clements, 866-767-3347.

EIS No. 20070313, Draft EIS, NOA, 00, Amendment 2 to the Consolidated Atlantic Highly Migratory Species Fishery Management Plan, To Implement Management Measures that Prevent Overfishing and Rebuild Overfished Stocks Implementation, Exclusive Economic Zone (EEZ) of the Atlantic Ocean, Gulf of Mexico and Caribbean Sea. Comment Period Ends: 10/10/2007. Contact: Margo Schulze-Haugen, 301-713-2347.

EIS No. 20070314, Final EIS, FTA, UT, Mid-Jordan Transit Corridor Project, Proposed Light Rail Transit Service, Funding, Salt Lake County, UT. Wait Period Ends: 08/27/2007. Contact: Charmaine Knighton, 720-963-3327.

Amended Notices

EIS No. 20070144, Final EIS, AFS, CA,VOID—REPORT—Brown Project, Proposal to Improve Forest Health by Reducing Overcrowded Forest Stand Conditions, Trinity River Management Unit, Shasta-Trinity National Forest, Weaverville Ranger District, Trinity County, CA, Wait Period Ends:05/21/2007. Contact: Joyce Andersen 530-623-2121. This FEIS was inadvertently refilled and published in 04/20/2007. FR. The Correct FEIS #20060252 was published in 06/16/2006 FR.

Dated: July 23, 2007.
Robert W. Hargrove,
Director, NEPA Compliance Division, Office of Federal Activities.

[FR Doc. E7-14568 Filed 7-26-07; 8:45 am]

BILLING CODE 6560-50-P